DEPARTMENT OF TRANSPORTATION

Federal Highway Administration

Environmental Impact Statement; San Joaquin County, CA

AGENCY: Federal Highway Administration (FHWA), Department of Transportation.

ACTION: Notice of Intent.

SUMMARY: The FHWA is issuing this notice to advise the public that an environmental impact statement will be prepared for a proposed highway project in San Joaquin County, California.

FOR FURTHER INFORMATION CONTACT: Michael G. Ritchie, Division Administrator, Federal Highway Administration, California Division, 980 Ninth St., Suite 400, Sacramento, California 95814-2724.

SUPPLEMENTARY INFORMATION: The FHWA, in cooperation with the California Department of Transportation (Caltrans), will prepare an Environmental Impact Statement (EIS) on a proposal to improve State Route (SR) 99 in San Joaquin County, California. The proposed improvement would involve widening SR 99 from four lanes to six lanes from 0.6 kilometers north of Arch Road to 0.2 kilometers south of SR 4 West, in Stockton, San Joaquin County, California. Depending on the alternative selected, this project proposes to also remove the existing South Stockton over-crossing (#29-156) and the Clark Drive “button hook” ramps. The project would evaluate the feasibility of eliminating existing freeway access at the Farmington Road (SR 4 East) interchange and constructing frontage roads between Farmington Road (SR 4 East) and Mariposa Road to maintain continuity through the SR 4 East system. The proposed project would extend Netherton Avenue to Mariposa Road. It would reconstruct the Farmington Road (SR 4 East), Mariposa Road, and Charter Way interchanges and replace all existing bridges within the project limits to meet width and vertical clearance standards with provisions for the ultimate eight-lane freeway concept.

Alternatives under consideration include (1) taking no action, (2) widening into the median leaving a median that would vary between 3.8 meters and 7.1 meters, (3) widening into the median and to the outside leaving a median that would vary form 7.1 meters to 10.8 meters and, (4) reconstructing SR 99 to full standards with an 18-meter median.

Letters describing the proposed action and soliciting comments will be sent to the appropriate federal, state, and local agencies, and to private organizations and citizens who have previously expressed or are known to have interest in this proposal. A public hearing will be held. Public notice will be given of the time and place of the hearing. The draft EIS will be available for public and agency review and comment before the public hearing.

To ensure that all concerns and issues related to this proposed action are addressed and identified, comments and suggestions are invited from all interested parties. If you have any information regarding historic resources, endangered species, or other sensitive issues that could be affected by this project, please notify this office. Also, please indicate if you would be interested in being notified at the completion of historic resources studies.

Comments or questions concerning this proposed action and the EIS should be directed to the FHWA at the address provided above.

(Catalog of Federal Domestic Assistance Program Number 20.205,Highway Research, Planning, and Construction. The regulations implementing Executive Order 12372 regarding intergovernmental consultation on Federal programs and activities apply to this program.)

Issued on: January 29, 2002.
Maiser Khaled,
District Engineer, Sacramento, California.

[FR Doc. 02-5758 Filed 3-8-02; 8:45 am]

BILLING CODE 4910-22-M